DEPARTMENT OF THE TREASURY

United States Mint

Pricing for the 2015 Coin and Chronicles Sets for Harry S. Truman, Dwight D. Eisenhower, John F. Kennedy, and Lyndon B. Johnson

AGENCY: United States Mint, Department of the Treasury.

ACTION: Notice.

SUMMARY: The United States Mint is announcing pricing for the 2015 Coin and Chronicles Sets as follows:

Coin and medal sets | Price for each set
2015 Coin and Chronicles Set—Harry S. Truman | $57.95
2015 Coin and Chronicles Set—Dwight D. Eisenhower
2015 Coin and Chronicles Set—John F. Kennedy
2015 Coin and Chronicles Set—Lyndon B. Johnson

FOR FURTHER INFORMATION CONTACT: Mary Lhotsky, Acting Associate Director for Sales and Marketing; United States Mint; 801 Ninth Street NW., Washington, DC 20220; or call 202-354-7500.

Authority: 31 U.S.C. 5111(a)(2), 5112.

Dated: April 24, 2015.
Richard A. Peterson,
Deputy Director for Manufacturing and Quality, United States Mint.

[FR Doc. 2015-10010 Filed 4-28-15; 8:45 am]

BILLING CODE P